DEPARTMENT OF ENERGY

Federal Energy Regulatory Commission

[Docket No. CP16-116-000]

Notice of Intent To Prepare a Supplemental Environmental Impact Statement for the Proposed Texas LNG Brownsville LLC Texas LNG Project, Request for Comments on Environmental Issues, and Schedule for Environmental Review

The staff of the Federal Energy Regulatory Commission (FERC or Commission) will prepare a supplemental environmental impact statement (supplemental EIS) for the Texas LNG Project, proposed by Texas LNG Brownsville LLC (Texas LNG) in Cameron County, Texas.¹ On August 6, 2024, the U.S. Court of Appeals for the District of Columbia Circuit issued an opinion vacating and remanding the Commission's November 22, 2019 Order Granting Authorization under Section 3 of the Natural Gas Act and its April 21, 2023 Order on Remand that approved the liquefied natural gas (LNG) terminal.² On remand, the Commission will consider whether to grant a Natural Gas Act (NGA) section 3(a) authorization for the Texas LNG Project. The schedule for preparation of the supplemental EIS is discussed in the Schedule for Environmental Review section of this notice.

¹ In accordance with the Council on Environmental Quality's regulations, the unique identification number for documents relating to this environmental review is SEIS-019-20-000-1726224938. 40 CFR 1502.4(e)(10) (2024).

² City of Port Isabel v. FERC, 111 F.4th 1198 (D.C. Cir. 2024).

The Commission must determine whether to authorize the project under the NGA, taking into consideration the factors discussed in the court's decision. The supplemental EIS will tier off Commission staff's analysis and conclusions as documented in staff's March 15, 2019 final EIS for the project. The focus of the supplemental EIS will be the issues identified by the court as requiring further analyses (i.e., environmental justice impacts and air quality). The Commission will use this supplemental EIS in its decision-making process to determine whether to authorize the Texas LNG Project in light of the court's vacatur and remand.

As part of the National Environmental Policy Act (NEPA) review process, the Commission takes into account concerns the public may have about proposals and the environmental impacts that could result from its action whenever it considers the issuance of an authorization. This notice announces the opening of the scoping process the Commission will use to gather input from the public and interested agencies regarding the issues that will be analyzed in the supplemental EIS. Additional information about the Commission's NEPA process is described below in the NEPA Process and the Supplemental EIS section of this notice.

By this notice, the Commission requests public comments on the scope of issues to address in the supplemental EIS. To ensure that your comments are timely and properly recorded, please submit your comments so that the Commission receives them in Washington, DC on or before 5:00 p.m. Eastern Time on October 15, 2024. Comments may be submitted in written form. Further details on how to submit comments are provided in the Public Participation section of this notice.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is also located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (CP16-116-00) on your letter. Submissions sent via the U.S. Postal Service must be addressed to: Debbie-Anne Reese, Acting Secretary, Federal Energy Regulatory Commission, 888 First Street NE, Room 1A, Washington, DC 20426. Submissions sent via any other carrier must be addressed to: Debbie-Anne Reese, Acting Secretary, Federal Energy Regulatory Commission, 12225 Wilkins Avenue, Rockville, MD 20852.

Additionally, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members, and others access publicly available information and navigate Commission processes. For public inquiries and assistance with making filings such as interventions, comments, or requests for rehearing, the public is encouraged to contact OPP at (202) 502-6595 or OPP@ferc.gov.

Summary of the Proposed Project

Texas LNG's stated purpose of the project is to site, construct, and operate an LNG export terminal on the Brownsville Ship Channel in Cameron County, Texas to convert domestically produced natural gas to LNG for storage and export. Texas LNG states that it intends to produce up to 4 million tons per annum (MTPA) of LNG for export.

The Texas LNG Project would consist of two natural gas liquefaction trains, each with a nominal capacity of 2.0 MTPA; two LNG storage tanks; a single LNG carrier berth; mooring and loading facilities; and other appurtenant facilities. The general location of the project facilities is shown in appendix 1.³

³ The appendices referenced in this notice will not appear in the Federal Register. Copies of the appendices were sent to all those receiving this notice in the mail and are available at www.ferc.gov using the link called “eLibrary.” For instructions on connecting to eLibrary, refer to the last page of this notice. For assistance, contact FERC at FERCOnlineSupport@ferc.gov or call toll free, (886) 208-3676 or TTY (202) 502-8659.

Based on the environmental analysis in the March 15, 2019 final EIS, construction and installation of facilities for the project would require temporary disturbance of about 311.5 acres of land. Following construction, the LNG terminal site would encompass about 282 acres. The remaining 29.5 acres would return to pre-construction conditions and uses.

The NEPA Process and the Supplemental EIS

In order to address the court's August 6, 2024 remand, Commission staff will supplement the analysis from the 2019 final EIS. As noted above, the focus of the supplemental EIS will be the issues identified by the court as requiring further analysis. Specifically, the supplemental EIS will include: (1) an updated analysis of the environmental justice impacts associated with the construction and operation of the Texas LNG Project; and (2) a revised analysis of air quality impacts resulting from construction and operational emissions.

Commission staff will also make recommendations on how to lessen or avoid the impacts analyzed in the supplemental EIS. Your comments will help Commission staff focus its analysis on the issues that may have a significant effect on the human environment.

The supplemental EIS will present Commission staff's independent analysis of the issues. Staff will prepare a draft supplemental EIS which will be issued for public comment. Commission staff will consider all timely comments received during the comment period on the draft supplemental EIS and revise the document, as necessary, before issuing a final supplemental EIS. Any draft and final supplemental EIS will be available in electronic format in the public record through eLibrary ⁴ and the Commission's natural gas environmental documents web page (https://www.ferc.gov/industries-data/natural-gas/environment/environmental-documents). If eSubscribed, you will receive instant email notification when the environmental document is issued.

⁴ For instructions on connecting to eLibrary, refer to the last page of this notice.

Alternatives Under Consideration

This supplemental EIS will evaluate reasonable alternatives that are technically and economically feasible and meet the purpose and need for the proposed action.⁵ Alternatives currently under consideration include the no-action alternative, meaning the project is not implemented.

⁵ 40 CFR 1508.1(hh) (2024).

With this notice, the Commission requests specific comments regarding any additional potential alternatives to the proposed action. Please focus your comments on reasonable alternatives (including alternative facility sites not previously analyzed) that meet the project objectives, are technically and economically feasible, and avoid or lessen environmental impact.

Schedule for Environmental Review

This notice identifies the Commission staff's planned schedule for completion of the final supplemental EIS for the project, which is based on an issuance of the draft supplemental EIS in March 2025, opening a 45-day comment period.

Issuance of Notice of Availability of the final supplemental EIS—July 31, 2025

90-day Federal Authorization Decision Deadline ⁶—October 29, 2025

⁶ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

In accordance with the Council on Environmental Quality's regulations, for EISs, agencies are to make schedules for completing the NEPA process publicly available.⁷ This notice identifies the Commission's anticipated schedule for issuance of the final order for the project, which serves as the Commission's record of decision. We currently anticipate issuing a final order for the project no later than:

⁷ 40 CFR 1501.10(h) (2024).

Issuance of Final Order—November 20, 2025

If a schedule change becomes necessary, an additional notice will be provided so that the relevant agencies are kept informed of the project's progress.

Environmental Mailing List

This notice is being sent to the Commission's current environmental mailing list for the project which includes: federal, state, and local government representatives and agencies; Native American Tribes; elected officials; environmental and public interest groups; other interested parties. This list also includes all affected landowners (as defined in the Commission's regulations) who are potential right-of-way grantors, whose property may be used temporarily for project purposes, or who own homes within certain distances of aboveground facilities, and anyone who submits comments on the project and includes a mailing address with their comments. Commission staff will update the environmental mailing list as the analysis proceeds to ensure that Commission notices related to this environmental review are sent to all individuals, organizations, and government entities interested in and/or potentially affected by the project.

If you need to make changes to your name/address, or if you would like to remove your name from the mailing list, please complete one of the following steps:

(1) Send an email to GasProjectAddressChange@ferc.gov stating your request. You must include the docket number CP16-116-000 in your request. If you are requesting a change to your address, please be sure to include your name and the correct address. If you are requesting to delete your address from the mailing list, please include your name and address as it appeared on this notice. This email address is unable to accept comments.

OR

(2) Return the attached “Mailing List Update Form” (appendix 2).

Additional Information

Additional information about the project is available from the Commission's Office of External Affairs, at (866) 208-FERC, or on the FERC website at www.ferc.gov using the eLibrary link. Click on the eLibrary link, click on “General Search” and enter the docket number in the “Docket Number” field, excluding the last three digits (i.e., CP16-116). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: September 13, 2024.
Debbie-Anne A. Reese,
Acting Secretary.

[FR Doc. 2024-21474 Filed 9-19-24; 8:45 am]

BILLING CODE 6717-01-P